DEPARTMENT OF ENERGY

Federal Energy Regulatory Commission

Notice of Settlement Agreement and Soliciting Comments

September 25, 2000.

Take notice that the following settlement agreement has been filed with the Commission and is available for public inspection:

a. Type: Settlement Offer on New License Application.

b. Project No.: 1864-005.

Project Name: Bond Falls.

Applicant: Upper Peninsula Power Company.

c. Date Settlement Agreement Filed: July 11, 2000.

d. Location: On the Ontonagon River, in Ontonagon and Gogebic Counties, Michigan. About 74 acres of the Ottawa National Forest are included within the project boundary.

e. Filed Pursuant to: Rule 602 of the Commission's Rules of Practice and Procedure, 18 CFR 385.602.

f. Applicant's Contact: Mr. Robert Meyers, Upper Peninsula Power Company, 500 North Washington St., P.O. Box 357, Ishpeming, MI 49849, (906) 485-2419.

g. FERC Contact: Patrick Murphy (202) 219-2659, Email: patrick.murphy@ferc.fed.us.

h. Deadline Dates: comments due: October 25, 2000, reply comments due: November 9, 2000.

i. All documents (original and eight copies) should be filed with: David P. Boergers, Secretary, Federal Energy Regulatory Commission, 888 First Street, NE, Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

j. A Settlement Agreement was filed with the Commission on July 11, 2000. The agreement is the final, executed bond Falls Hydroelectric Project Settlement Agreement for the relicensing of Project No. 1864. The purpose of the Settlement is to resolve among the signatory parties all issues associated with issuance of a new license for the project regarding project operation; upstream fish passage; downstream fish protection; woody debris management; water quality; instream flows; wildlife enhancement; land-based recreation; endangered and sensitive species management; project boundaries; land management; and future dam responsibility. Comments and reply comments on the Offer of Settlement are due on the dates listed above. Interested parties that have already filed comments on the settlement do not need to file their comments again for them to be considered by the Commission.

k. Copies of the offer of settlement are available for inspection and reproduction at the Commission's Public Reference Room, located at 888 First Street, NE, Room 2A, Washington, DC 20426, or by calling (202) 208-1371. This filing may be viewed on http://www.ferc.fed.us/online/rims.htm (call 202-208-2222 for assistance) or at the address listed in item f above.

David P. Boergers,
Secretary.

[FR Doc. 00-24988 Filed 9-28-00; 8:45 am]

BILLING CODE 6717-01-M